DEPARTMENT OF THE INTERIOR

Bureau of Land Management

[MT-029-03-1310-DT CBMP]

Notice of Availability of the Record of Decision for the Montana Statewide Oil and Gas Final Environmental Impact Statement and Plan Amendments of the Powder River and Billings Resource Management Plans (RMPs); Montana

AGENCY: Bureau of Land Management, Montana State Office, Interior.

ACTION: Notice of availability.

SUMMARY: In accordance with the Federal Land Policy and Management Act and the National Environmental Policy Act, the Bureau of Land Management (BLM) announces the availability of the Record of Decision for the Montana Statewide Final Environmental Impact Statement (FEIS) and Resource Management Plan (RMP) Amendment of the Powder River and Billings RMPs. The BLM planning area included oil and gas estate administered by BLM in the Powder River and Billings RMP areas. The FEIS and Plan Amendments were available for protest from January 17, 2003, through February 18, 2003. All protests and comments received were considered during the preparation of the ROD.

ADDRESSES: Copies of the ROD have been sent to affected Federal, State, and local government agencies and to interested parties. The document will be available electronically on the following Web site: http://www.mt.blm.gov/mcfo/. Copies of the ROD are available for public inspection at the following BLM office locations: Office of External Affairs, Main Interior Building, Room 6214, 18th and C Streets, NW., Washington, DC 20240; External Affairs Office; Montana State Office, 5001 Southgate Drive, Billings, MT 59101; Miles City Field Office, 111 Garryowen Road, Miles City, MT 59301.

FOR FURTHER INFORMATION CONTACT: Mary Bloom, Coal Bed Methane Program Manager, Bureau of Land Management, 111 Garryowen Road, Miles City, MT 59301, (406) 233-3649.

SUPPLEMENTARY INFORMATION: The Powder River RMP area encompasses the southeastern portion of Montana consisting of Treasure and Powder River counties, and portions of Rosebud, Big Horn, Carter, and Custer counties. There are approximately 2,522,950 BLM-administered oil and gas acres in the Powder River RMP area. The Billings RMP area encompasses the south-central portion of Montana consisting of Wheatland, Golden Valley, Musselshell, Sweet Grass, Stillwater, Yellowstone, and Carbon counties, and the remaining portion of Big Horn County. There are approximately 662,066 BLM-administered oil and gas acres in the Billings RMP area. The BLM-administered oil and gas acreage in Blaine, Park, and Gallatin counties is not part of this BLM planning effort.

The State of Montana was a co-lead in preparation of the EIS. Four Designated Cooperating Agencies helped the BLM and the State prepare the EIS: the Bureau of Indian Affairs, the United States Department of Energy, the Crow Tribe, and the United States Environmental Protection Agency. The Northern Cheyenne Tribe declined to become a cooperating agency, but was invited by the BLM to participate in all Cooperating Agency activities.

Dated: April 11, 2003.
Martin C. Ott,
State Director.

[FR Doc. 03-10719 Filed 4-29-03; 8:45 am]

BILLING CODE 4310-$$-P